DEPARTMENT OF HEALTH AND HUMAN SERVICES

National Institutes of Health

National Cancer Institute Amended Notice of Meeting

Notice is hereby given of a change in the meeting of the National Cancer Institute Special Emphasis Panel, September 30, 2014, 08:00 a.m. to October 01, 2014, 05:00 p.m., Hilton Rockville Hotel, Rockville, MD, 20852 which was published in the Federal Register on July 17, 2014, 79 FR 41701.

Meeting location has been changed to the Doubletree Bethesda, 8120 Wisconsin Ave, Bethesda, MD 20814. The meeting is closed to the public.

Dated: August 13, 2014.
Melanie J. Gray,
Program Analyst, Office of Federal Advisory Committee Policy.

[FR Doc. 2014-19597 Filed 8-18-14; 8:45 am]

BILLING CODE 4140-01-P